ENVIRONMENTAL PROTECTION AGENCY

[FRL-9155-2]

New York State Prohibition of Discharges of Vessel Sewage; Final Affirmative Determination

AGENCY: Environmental Protection Agency (EPA).

ACTION: Notice of determination.

SUMMARY: Notice is hereby given that the Regional Administrator of the Environmental Protection Agency—Region 2, has determined that adequate facilities for the safe and sanitary removal and treatment of sewage from all vessels are reasonably available for the waters of the New York State (NYS) Canal System, including the 524 linear miles of navigable waterways within the Erie, Oswego, Champlain, and Cayuga-Seneca canal segments, and including Onondaga, Oneida, and Cross Lakes.

SUPPLEMENTARY INFORMATION: On April 30, 2009, the State of New York petitioned the Regional Administrator, EPA—Region 2, pursuant to Section 312(f)(3) of Public Law 92-500 as amended by Public Law 95-217 and Public Law 100-4, for a determination that adequate facilities for the safe and sanitary removal and treatment of sewage from all vessels are reasonably available for the NYS Canal System.

The NYS Department of Environmental Conservation (NYSDEC), in collaboration with the New York State Canal Corporation, the New York Department of State, and the New York State Environmental Facilities Corporation, prepared and submitted the petition, and NYSDEC certified the need for greater protection of the water quality in the NYS Canal System.

The waters of the proposed No Discharge Zone fall within the jurisdictions of the NYS Thruway Authority and NYS Canal Recreationway Commission, and include four distinct segments of the NYS Canal System. Adequate pumpout facilities are defined as one pumpout station for every 300 to 600 boats, pursuant to the Clean Vessel Act: Pumpout Station and Dump Station Technical Guidelines (59 FR 11290-02).

Findings: Potential vessel population in the NYS Canal System was determined using three sources of information: slips (6,896), boater registrations (21,201), and lockings (23,278). Based on the numbers determined through these sources and the number of pumpouts available (87), the following ratios were determined: using number of slips: 1:80, using NYS Boater Registrations 1:243, and using number of lockings: 1:267, respectively. Thus adequate pumpouts are available for all boaters using the NYS Canal System. For all vessel waste disposal from pumpouts, there are 87 NYS Clean Vessel Assistance Program (CVAP) completed projects, 4 dispose of wastes to an on-site septic system, 21 dispose to a holding tank and 62 dispose to a municipal wastewater treatment plant. Thus all vessel sewage will be either discharge into State approved and regulated septic tanks or holding tanks for transport to a sewage treatment plant. Online maps are provided at http://www.nysefc.org/maps and include Google maps of pumpout locations and marina sheets that provide boaters with detailed availability information. Based on the above, EPA Region 2, has determined that adequate facilities for the safe and sanitary removal and treatment of sewage from all vessels are reasonably available for the waters of the New York State (NYS) Canal System. The following is a summary of EPA's findings regarding the adequacy of pumpout facilities for the four Canal System segments at issue:

Champlain Canal

The Champlain Canal encompasses an area from the Federal lock in Troy, NY, to Whitehall, NY. The Champlain Canal leads north to Lake Champlain. Lake Champlain is a large waterbody that is already designated as a No Discharge Zone (NDZ) for vessel sewage, and the direct disposal of greywater into the lake is also prohibited. The total travel distance of the canal area is 60 miles, and to travel the entire length takes approximately 7 hours. There are 276 slips available and 7 operating pumpouts on the Champlain Canal. The 1:300 ratio would only require one pumpout, if the calculation were based solely on the number of slips. The availability of seven pumpouts for this canal meets the criteria for sufficient pumpout access, even accounting for some additional demand from transient traffic. The NYS side of Lake Champlain has an additional 1,014 slips available and 8 additional pumpouts.

Erie Canal

The Erie Canal stretches from Waterford (at the confluence of the Mohawk and Hudson Rivers) to the Tonawandas (at the Niagara River), traveling through Oneida Lake and Cross Lake, and connecting to Onondaga Lake along the way. This portion of the Canal is 338 miles long and has 44 pumpouts available for 2,555 slips. Achieving a 1:300 ratio would require a minimum of nine pumpouts for the current number of slips. Therefore, there is more than a sufficient number of pumpouts for this canal segment as a whole.

Oswego Canal

The Oswego Canal is a 24-mile-long stretch from the main Erie Canal up to the Port of Oswego and Lake Ontario. This section of the canal has 407 slips and three pumpouts, all located at the City of Oswego terminus. The travel time for the length of this segment is approximately two hours and 20 minutes. Along the way, the Minetto River View Park in Minetto and the Canal Park Marina in Fulton have restrooms available for boaters.

Cayuga-Seneca Canal

The Cayuga-Seneca Canal is a small, 12-mile-long section of the larger canal that veers from the main Erie Canal and intersects with two Finger Lakes—Cayuga and Seneca Lakes. It contains 582 slips and seven pumpouts. In addition, although the two lakes are not included in this NYS Canal NDZ application, there are 7 pumpouts available in Cayuga and 5 pumpouts available in Seneca.

Public Comments: EPA published a notice of petition and tentative affirmative determination on March 15, 2010 in the Federal Register (75 FR 12233-01). Public comments were solicited for 30 days, and the comment period ended on April 14, 2010. EPA Region 2 received a total of forty-eight (48) comments. All the comments received are in favor of the NDZ designation with some suggestions and questions.

EPA received letters from the following individuals:

1. George E. Wegman, Rochester, NY

2. Meredith J. Sorenoen, Fairport, NY

3. Eugene Spanganberg, Farmington, NY

4. Roberta Przybylowicz, Webster, NY

5. Barbara S. Rivette, Chair, Onondaga County Council on Environmental Health, Syracuse, New York

EPA received e-mails from the following individuals:

1. Richard Steinheider, Pittsford, NY

2. Paul Miller, Churchville, NY

3. Gary & Carmela Gilbert

4. Doug Hitchcock, Fairport, NY

5. Richard Carello, Canastota, NY

6. Craig Farnsworth

7. Patrick Micari, Fairport, NY

8. Diane Worske, Johnstown, NY

9. Sara Jackson, West Melbourne, FL

10. Captain Hugh Warfle

11. Emily Castner, Pittsford, NY

12. Sean Patrick Mulvery, Pittsford, NY

13. Rob Peterson, Penfield, NY

14. Marci Wilcove, Pittsford, NY

15. Bill Campbell

16. Brian S. Smith, Ontario, NY

17. Sandy Leary, Webster, NY

18. Wade Hughes

19. Bernard McCullen, Pittsford, NY

20. Bill Pullis, Pittsford, NY

21. Stephanie Post, Waterloo, NY

22. Charles Gibson

23. J. Potter

24. Roger Schurkamp

25. James Whitney

26. Janet Blaser

27. William Wood, NY

28. Charlotte Witte, Conesus, NY

29. Marty La Nay

30. Melody Burdekin, Pittsford, NY

31. Tina McKean, Scottsville, NY

32. Margaret Y. Myers

33. Beth Tarduno

34. Maria Tarduno

35. Gene Dichiara, Rochester, NY

36. Pete Deloe

37. James Walsh, Pittsford, NY

38. Constance M. Glover, Fairport, NY

39. G. Terry Thomas

40. Peter Collinge, Henrietta, NY

41. Edmund Brescia, Staten Island, NY

42. Cindy Halpern, Pittsford, NY

43. Russell Nemecek, Syracuse, NY

Summary of Comments and EPA's Responses: All forty-eight (48) commenters expressed strong support for the establishment of a NDZ for the NYS Canal System and commented that this Final Determination was an important step in protecting the water quality and the resources of the canal system. They raised the following issues or suggestions regarding the NDZ designation.

Issue 1: One commenter stated that chlorine is introduced in large amounts through the disinfection of the final effluent from the on-line sewer plants on all tributaries flowing into Oneida Lake, and suggested that the potential adverse impact of the residual chlorine on biota and drinking water might be avoided by employing other means to disinfect the final effluent from the treatment plants, such as ultraviolet light or ozone.

EPA Response: This comment is on a topic that is beyond the scope of this action, as this action does not involve treatment standards for sewage treatment plants.

Issue 2: One commenter stated that, in addition to the boaters, there are many homes along the waterways that are dumping directly into the canal system.

EPA Response: This comment is on a topic that is beyond the scope of this action, as this action only addresses the discharge of sewage from vessels. If the commenter has specific information regarding unpermitted discharges from homes into the canal system, the commenter should report that information to the NYSDEC.

Issue 3: Many commenters expressed concerns about the adequacy of existing pumpout facilities in the NYS Canal System, including the total number of facilities and the conditions and availability of the pumpouts.

EPA Response: The criterion established by the Clean Vessel Act regarding the adequate number of pumpouts per vessel population is one pumpout per 300 to 600 vessels. As described above, NYSDEC has submitted pumpout information (including location, phone numbers, lat./long., VHF channel, dates and hours of operation, fees, and capacity) demonstrating that all areas of the NYS Canal System meet or exceed this criterion. Therefore, EPA has determined that there are adequate pumpout facilities.

Issue 4: One commenter stated that the newly proposed NDZ for the NYS Canal System leads to the wrong impression that boaters have been, and continue to be, polluting the canal with human wastes. The commenter thought that the current Coast Guard Regulations prohibit discharge of waste within three miles of shore and, therefore, that there were no sewage discharges allowed by boaters into the canal.

EPA Response: Federal law prohibits the discharge of untreated sewage from vessels into any waters of the U.S., which include territorial seas within three miles of shore. However, boats with Type I and Type II Marine Sanitation Devices may discharge treated effluent in coastal waters UNLESS they are in a No Discharge Zone. A Type III marine sanitation device (holding tank) is the only type that can be used legally in a NDZ. Once a NDZ is established, vessels cannot discharge treated or untreated sewage into the waterbody (40 CFR 140.4).

Issue 5: One commenter stated that states should designate all of their surface waters as NDZ. Several commenters stated that the proposed NDZ for the NYS Canal System should have been established much sooner to protect the water quality throughout the Canal System.

EPA Response: Under the Clean Water Act, states may petition, by a written application, for a NDZ designation from the EPA Regional Administrator under Sections 312(f)(3), 312(f)(4)(A), or 312(f)(4)(B) of the Clean Water Act. To initiate the NDZ process, an interested party, group, or local government can discuss their concerns with the State agency or agencies responsible for addressing vessel sewage discharges. If the State determines a waterbody to be appropriate for designation as a NDZ, the State can submit to the EPA Regional Administrator an application to have the waterbody (or waterbodies) of concern designated. The application and designation process varies depending upon the type of NDZ that the State is seeking.

Issue 6: Several commenters suggest that stricter enforcement regulations for sewage discharge in the NYS Canal System are needed.

EPA Response: New York State's enforcement authority of NDZs is addressed in the New York State Navigation Law. Under Article 3, Section 33(e), paragraph 4 “any vessel being operated upon waters of the State that have been designated as a vessel waste NDZ may be boarded and inspected by the department or health department or any lawfully designated agents or inspectors thereof * * *” All certified peace officers are agents of the State, which means that any bona-fide law enforcement officer (State, County, Village police, including bay constables, Harbor Masters, etc.) has the authority to enforce the NDZ. Therefore, EPA believes that New York State's ability to enforcement the NDZs is sufficient.

While information on each pumpout was published in the March 15, 2010, some information was missing at that time. Therefore, the following listings complete those pumpout facility descriptions that were incomplete.

Name: Brockport Lift Bridge.

Phone Number: (585) 637-5300.

Lat./Long.: 43.216898/-77.938367.

VHF Channel: None.

Dates of Operation: May 1-October 15, Mon.-Sun.

Hours of Operation: 24 Hours.

Facility Fee: $0.00.

Vessel Size: Unlimited.

Disposal/Treatment: Connection to Municipal System.

Facility Fee: $0.00.

Name: Village of Fairport, NY.

Phone Number: (585) 421-3240.

Lat./Long.: 43. 100742/-77.440136.

VHF Channel: None.

Dates of Operation: Memorial Day-November 1, Mon.-Sun.

Hours of Operation: 24 hrs.

Facility Fee: $0.00.

Vessel Size: 40′.

Disposal/Treatment: N/A.

Name: Little Falls Canal Harbor.

Phone Number: (315) 823-2400.

Lat./Long.: 43.034692/-74.865492.

VHF Channel: 16.

Dates of Operation: Memorial Day-November 1, Mon.-Sun.

Hours of Operation: 7 a.m. to 10 p.m.

Facility Fee: $0.00.

Vessel Size: Unlimited.

Disposal/Treatment: Septic.

Name: Schenectady Yacht Club, Inc.

Phone Number: (585) 384-3707.

Lat./Long.: 42.850978/-73.88734723.

VHF Channel: 16.

Dates of Operation: Memorial Day-November 1, Mon.-Sun.

Hours of Operation: 24 Hours.

Facility Fee: $0.00.

Vessel Size: Unlimited.

Disposal/Treatment: N/A.

In addition, some pumpouts that were included in the tentative decision are no longer available. These are listed below. Midway Marina and Service, Weedsport, NY, Fisher Bay Marina, Bridgeport, NY, Cold Springs Harbor, Baldwinsville, NY.

Determination: EPA hereby makes a final affirmative determination that adequate facilities for the safe and sanitary removal and treatment of sewage from all vessels are reasonably available for the waters of the New York State Canal System, including the 524 linear miles of navigable waterways within the Erie, Oswego, Champlain, and Cayuga-Seneca canal segments, and including Onondaga, Oneida, and Cross Lakes.

Dated: May 14, 2010.
Judith A. Enck,
Regional Administrator, Region 2.

[FR Doc. 2010-12653 Filed 5-26-10; 8:45 am]

BILLING CODE 6560-50-P